Title 3—

The President

Proclamation 7493 of November 5, 2001

National Adoption Month, 2001

By the President of the United States of America

A Proclamation

Children deserve to be raised in loving families with parents who protect and nurture them. For some children, adoption is their best chance for a healthy and happy life. Each year, American families adopt approximately 120,000 newborn or older children, providing them with a loving and supportive environment.

Despite this substantial number of annual adoptions, more than 134,000 children are currently waiting adoption. While our foster care system can provide a safe, temporary home for these children, adoption would give them the love and stability of a permanent family that would better enable them to develop to their full potential.

My Administration is working to help states promote and support adoptions. This year, 35 states and the District of Columbia received adoption incentive awards for increasing the number of children they placed from foster care into permanent homes. States have reinvested these bonuses to enhance their adoption and child welfare programs, which has resulted in an unprecedented 79 percent increase in adoptions from 28,000 in 1996 to 50,000 in 2000.

Although we have made dramatic advances in encouraging adoption, we must strengthen our efforts to find a safe, loving, and permanent home for every child awaiting one. One important way to advance towards this goal is to ease the financial burden on families that adopt children. The tax relief bill that I signed into law earlier this year extends and increases the adoption tax credit for qualified expenses from $5,000 to $10,000 per child. The new law also increases the tax credit for adoptive parents of children with special needs from $6,000 to $10,000 per child, regardless of expenses. Parents who adopt children with special needs will benefit from this meaningful tax credit because it will help cover unique adoption costs.

Ensuring the provision of post-adoptive services also plays an important role in facilitating successful adoptions. I support the Promoting Safe and Stable Families proposal, currently before the Congress, which would improve post- adoptive services by prioritizing research and evaluation for these services and establishing systems to ensure that they are available to meet the needs of adoptive families. In addition, this proposal provides for education and training vouchers to children adopted after the age of 15.

Adoptive parents have a special calling—sharing a loving home with children in need, offering them hope for a brighter future. Federal, state, and local governments must continue supporting these quiet heroes as they make the considerable sacrifices and receive the countless blessings of parenthood that come from providing a child with the chance of a lifetime—an upbringing in a happy and healthy home.

NOW, THEREFORE, I, GEORGE W. BUSH, President of the United States of America, by virtue of the authority vested in me by the Constitution and laws of the United States, do hereby proclaim November 2001, as National Adoption Month. I call on all Americans to observe this month with appropriate programs and activities to honor adoptive families and to participate in efforts to find permanent homes for waiting children.

IN WITNESS WHEREOF, I have hereunto set my hand this fifth day of November, in the year of our Lord two thousand one, and of the Independence of the United States of America the two hundred and twenty-sixth.

B

[FR Doc. 01-28210

Filed 11-7-01; 8:45 am]

Billing code 3195-01-P